DEPARTMENT OF HEALTH AND HUMAN SERVICES

Centers for Disease Control and Prevention

[30DAY-49-02]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project

Perceptions of Tuberculosis Among Foreign Born Persons—New—National Center for HIV, STD, and TB Prevention (NCHSTP), Centers for Disease Control and Prevention (CDC). CDC proposes to conduct an ethnographic study to assess the attitudes, beliefs, and practices of selected foreign born persons regarding tuberculosis (TB). The purpose of this two-year effort is to provide formative research findings to use when designing future surveys, planning interventions, and evaluating programs to improve TB screening and adherence to therapy among foreign born persons. This research will also identify program gaps in addressing the special needs of these populations. A review of published data and consensus among TB researchers suggest that elimination of TB in the United States will depend largely upon reducing the impact of the disease among the foreign born. Currently, almost half of all domestic TB cases occur among foreign-born persons, and this proportion is growing. Providing culturally appropriate and responsive services to people from a variety of ethnic and cultural backgrounds is a challenge for local TB control programs and has been identified as a priority area in TB elimination activities.

Recognizing this challenge, the CDC Working Group on Tuberculosis Among Foreign Born Persons in 1998 developed recommendations for increasing emphasis on prevention and control of TB in foreign-born populations. The recommendations highlighted the need to utilize operational and behavioral research to gain a better understanding of relevant barriers to diagnosis and care. While few studies have examined these issues with the goal of developing practical tools to enhance TB services, a New York State research project, conducted among Vietnamese refugees, created a valid research method for assessing TB issues among this population. The project resulted in policy change that increased this group's adherence to therapy.

The proposed two year study will build upon this research with Vietnamese refugees but will incorporate several cultural groups in four U.S. cities with a high burden of foreign-born TB patients. In depth ethnographic interviews will be conducted with 200 adults from the four ethnic/cultural groups, 50 per site. The information will be gathered by trained professional, multilingual/multi-cultural interviewers who will be rendered by the contracting agent. The data collection instrument will be comprised of semi-structured and open-ended questions intended to elicit a full range of responses concerning the participants' cultural beliefs and attitudes toward TB. Interviews will last no longer than one hour. Analysis of data will be performed with Atlas.ti, a qualitative analysis computer program.

The ultimate project outcomes will include a cultural competency resource manual with profiles of TB beliefs and behaviors from the studied cultural groups. The manual will assist local and state health departments in developing customized interventions tailored to the local context. Culturally appropriate interventions will increase tuberculin skin testing and patient adherence to treatment for active TB disease and latent TB infection. In addition, the results can be used to develop targeted outreach, as well as customized communication protocols, patient education materials, incentives, and enablers. Finally, the study will produce a valid interview instrument that TB clinics can adopt for their own assessments of TB beliefs and attitudes among the local communities they serve. The annual burden for this data collection is 100 hours.

Respondents | Number of respondents | Number of responses/respondent | Average burden/response (in hours)
Foreign Born Persons (interviewed) | 100 | 1 | 1

Dated: September 5, 2002.
Nancy Cheal,
Acting Associate Director for Policy, Planning and Evaluation, Centers for Disease Control and Prevention.

[FR Doc. 02-23284 Filed 9-12-02; 8:45 am]

BILLING CODE 4163-18-P